DEPARTMENT OF THE INTERIOR

National Park Service

Concession Contracts

AGENCY: National Park Service, Interior

ACTION: Public notice.

SUMMARY: Pursuant to the terms of existing concession permits, with the exception of construction on National Park Service lands, public notice is hereby given that the National Park Service intends to provide visitor services under the authority of a temporary concession contract with a term of up to 1 year from the date of permit expiration.

SUPPLEMENTARY INFORMATION: Under the provisions of current concession permits, with one exception, and pending the development and public solicitation of a prospectus for a new concession permit, the National Park Service authorizes continuation of visitor services under a temporary concession contract for a period of up to 1 year from the expiration of the current concession permit. The exception precludes construction on National Park Service lands, regardless of whether the current permit authorizes such activity. The temporary contract does not affect any rights with respect to selection for award of a new concession contract.

Conc ID No. | Concessioner name | Park
AMIS002 | Forever Resorts, LLC | Amistad National Recreation Area.
AMIS003 | Rough Canyon Marina | Amistad National Recreation Area.
BAND001 | Bandelier Trading Company | Bandelier National Park.
CURE001 | Elk Creek Marina | Curecanti National Recreation Area.
DINO010 | Wilkins Firewood and Beverage | Dinosaur National Park.
GLCA001 | Wilderness River Adventures | Glen Canyon National Recreation Area.
GLCA021 | Banner Health, Page Hospital | Glen Canyon National Recreation Area.
GOSP001 | McFarland Distributing | Golden Spike National Historic Area.
GRCA003 | Grand Canyon Railroad | Grand Canyon National Park.
GRCA004 | Grand Canyon Trail Rides | Grand Canyon National Park.
GRCA005 | Verkamps, Inc | Grand Canyon National Park.
GRTE003 | Signal Mountain | Grand Canyon National Park.
GRTE009 | Exum Mountain Guides | Grand Teton National Park.
LAMR002 | Forever Resorts, LLC | Lake Meredith National Recreation Area.
LIBI001 | Little Bighorn Institute for Economic Development | Little Bighorn National Historic Site.
PAIS001 | Forever Resorts, LLC | Padre Island National Seashore.
PEFO001 | Xanterra Parks and Resorts | Petrified Forest National Park.
TICA001 | Carl and Betsy Wagner | Timpanogos Cave National Monument.
YELL004 | Yellowstone Park Service Stations, Inc | Yellowstone National Park.

EFFECTIVE DATE: January 2, 2004.

FOR FURTHER INFORMATION CONTACT: Cynthia Orlando, Concession Program Manager, National Park Service, Washington, DC 20240, Telephone, 202/513-7156.

Dated: November 25, 2003.
Richard G. Ring,
Associate Director, Administration, Business Practices and Workforce Development.

[FR Doc. 03-31938 Filed 12-29-03; 8:45 am]

BILLING CODE 4312-53-M